DEPARTMENT OF JUSTICE

Notice of Lodging of Proposed Consent Decree Under the Clean Air Act

On June 2, 2020, the Department of Justice lodged a proposed Consent Decree (“Consent Decree”) with the United States District Court for the District of New Jersey in the lawsuit entitled United States and the State of New Jersey, Department of Environmental Protection v. Somerset Raritan Valley Sewerage Authority, Civil Action No. 3:20-cv-06741-MAS-DEA.

In a Complaint, the United States, on behalf of the U.S. Environmental Protection Agency (“EPA”), and the State of New Jersey, on behalf of the Department of Environmental Protection, allege that the Somerset Raritan Valley Sewerage Authority (“SRVSA”) violated the Clean Air Act (the “Act”), 42 U.S.C. 7413, by violating: (1) The Solid Waste Combustion provisions in Section 129 of the Clean Air Act, 42 U.S.C. 7429, and (2) the Federal Plan Requirements for Sewage Sludge Incineration Units Constructed on or Before October 14, 2010, 40 CFR part 62, subpart LLL (“Subpart LLL”). The proposed Consent Decree in this case, among other things, requires that SRVSA comply with reporting obligations of the Act and pay a civil penalty of $225,000. In addition, the Consent Decree requires a New Jersey-sponsored supplemental project, to be overseen by the state, involving the collection and removal of mercury-containing equipment in county high schools.

The publication of this notice opens a period for public comment on the proposed Consent Decree. Comments should be addressed to the Assistant Attorney General, Environment and Natural Resources Division, and should refer to United States and the State of New Jersey, Department of Environmental Protection v. Somerset Raritan Valley Sewerage Authority, D.J. Ref. No. 90-5-2-1-11719. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Consent Decree may be examined and downloaded at this Justice Department website: https://www.justice.gov/enrd/consent-decrees. We will provide a paper copy of the proposed Consent Decree upon written request and payment of reproduction costs. Please mail your request and payment to: Consent Decree Library, U.S. DOJ—ENRD, P.O. Box 7611, Washington, DC 20044-7611.

Please enclose a check or money order for $10.75 (25 cents per page reproduction cost), payable to the United States Treasury.

Henry Friedman,
Assistant Chief, Environmental Enforcement Section, Environment & Natural Resources Division.

[FR Doc. 2020-12474 Filed 6-8-20; 8:45 am]

BILLING CODE 4410-15-P